DEPARTMENT OF COMMERCE

Economic Development Administration

Submission for OMB Review; Comment Request; Requirements for Approved Construction Investments

ACTION: Extension of a currently approved collection, comment request.

The Department of Commerce (DoC) has submitted to the Office of Management and Budget (OMB) for clearance the following proposal for collection of information under provisions of the Paperwork Reduction Act (44 U.S.C. Chapter 35).

Agency: Economic Development Administration (EDA).

Title: Requirements for Approved Construction Investments.

Agency Form Number: Not Applicable.

OMB Approval Number: 0610-0096.

Type of Request: Extension of a currently approved collection.

Burden: 23,200 hours.

Average Hours Per Response: 20 burden hours.

Number of Respondents: Approximately 1,160 respondents.

Needs and Uses: The Economic Development Administration (EDA) provides investments that will help our partners across the nation (states, regions and communities) create wealth and minimize poverty by promoting a favorable business environment to attract private capital investment and higher skill, higher wage jobs through world-class capacity building, infrastructure, business assistance, research grants and strategic initiatives.

The Requirements for Approved Construction Investments is needed to monitor construction projects for compliance with Federal and other program and administrative requirements as set forth in EDA's authorizing legislation (Pub. L. 105-393) and EDA's implementing regulations at 13 CFR parts 305 and 308, and the Common Rule as set forth at 15 CFR parts 14 and 24. The information collected from grant recipients is used by EDA to safeguard the public's interest in the grant assets, and to promote the effective use of grant funds accomplishing the purpose for which they were granted. Additionally, the information is used to monitor project progress in order to detect delays and to offer assistance to resolve delays when appropriate. EDA uses information gathered to analyze and report on program performance for over 600 projects which at any one time are still in design or construction.

Affected Public: State, local or Tribal Government and not-for profit organizations.

Frequency: On Occasion, Quarterly and Semiannually.

Respondent's Obligation: Required to obtain or retain benefits.

OMB Desk Officer: David Rostker, (202) 395-7340.

Copies of the above information collection proposal can be obtained by calling or writing Diana Hynek, Departmental Paperwork Clearance Officer, (202) 482-0266, U.S. Department of Commerce, Room 6625, 14th and Constitution Avenue, NW., Washington, DC 20230, or via Internet at dhynek@doc.gov.

Written comments and recommendations for the proposed information collection should be sent within 30 days of publication of this notice to David Rostker, OMB Desk Officer, Room 10202, New Executive Office Building, Washington, DC 20503.

Dated: November 25, 2002.
Madeleine Clayton,
Management Analyst, Office of the Chief Information Officer.

[FR Doc. 02-30299 Filed 11-27-02; 8:45 am]

BILLING CODE 3510-34-P